GENERAL SERVICES ADMINISTRATION

[OMB Control No. 3090-0250; Docket No. 2020-0001; Sequence No. 7]

Information Collection; General Services Administration Acquisition Regulation; Zero Burden Information Collection Reports

AGENCY: Office of the Chief Acquisition Officer, General Services Administration (GSA).

ACTION: Notice of request for public comments regarding an extension to an existing OMB information collection.

SUMMARY: Under the provisions of the Paperwork Reduction Act, the Regulatory Secretariat Division (MVCB) will be submitting to the Office of Management and Budget (OMB) a request to review and approve an extension of a previously approved information collection requirement regarding Zero Burden Information Collection Reports.

DATES: Submit comments on or before: October 26, 2020.

ADDRESSES: Submit comments identified by Information Collection 3090-0250, Zero Burden Information Collection Reports via http://www.regulations.gov. Submit comments via the Federal eRulemaking portal by searching the OMB control number 3090-0250. Select the link “Comment Now” that corresponds with “Information Collection 3090-0250, Zero Burden Information Collection Reports”. Follow the instructions provided on the screen. Please include your name, company name (if any), and “Information Collection 3090-0250, Zero Burden Information Collection Reports” on your attached document.

Instructions: Please submit comments only and cite Information Collection 3090-0250, Zero Burden Information Collection Reports, in all correspondence related to this collection. Comments received generally will be posted without change to regulations.gov, including any personal and/or business confidential information provided. To confirm receipt of your comment(s), please check regulations.gov, approximately two-to-three days after submission to verify posting.

FOR FURTHER INFORMATION CONTACT: Mr. Thomas O'Linn, Procurement Analyst, General Services Acquisition Policy, at 202-445-0390 or via email at Thomas.olinn@gsa.gov.

SUPPLEMENTARY INFORMATION:

A. Purpose

This information requirement consists of reports that do not impose collection burdens upon the public. These collections require information which is already available to the public at large, or that is routinely exchanged by firms during the normal course of business. A general control number for these collections decreases the amount of paperwork generated by the approval process.

Under clause 552.238-73, “Identification of Electronic Office Equipment Providing Accessibility for the Handicapped,” (previous clause number 552.238-70) the offeror is encouraged to identify office equipment, including any special peripheral that will facilitate electronic office equipment accessibility for handicapped individuals in its commercial catalogs and pricelists accepted by the Government.

B. Annual Reporting Burden

None.

C. Public Comments

Public comments are particularly invited on: Whether this collection of information is necessary and whether it will have practical utility; whether our estimate of the public burden of this collection of information is accurate and based on valid assumptions and methodology; and ways to enhance the quality, utility, and clarity of the information to be collected.

Obtaining Copies of Proposals: Requesters may obtain a copy of the information collection documents from the General Services Administration, Regulatory Secretariat Division (MVCB), 1800 F Street NW, Washington, DC 20405, telephone 202-501-4755.

Please cite OMB Control No. 3090-0250, Zero Burden Information Collection Reports, in all correspondence.

Jeffrey A. Koses,
Senior Procurement Executive, Office of Acquisition Policy, Office of Government-wide Policy.

[FR Doc. 2020-18799 Filed 8-26-20; 8:45 am]

BILLING CODE 6820-61-P